DEPARTMENT OF THE INTERIOR

Bureau of Land Management

[NV-910-07-1990-EX, 7-08808]

Notice of Availability of Draft Supplemental Environmental Impact Statement for Newmont Mining Corporation's Leeville Project, Nevada

AGENCY: Bureau of Land Management, Interior.

ACTION: Notice of Availability.

SUMMARY: In accordance with the National Environmental Policy Act (NEPA, 42 U.S.C. 4321, et seq.), the Bureau of Land Management (BLM), Elko Field Office has prepared a Draft Supplemental Environmental Impact Statement (SEIS) for Newmont Mining Corporation's Leeville gold mine in Eureka and Elko counties, Nevada, and by this notice is announcing the opening of the comment period.

DATES: To assure they will be considered, the BLM must receive written comments on the Draft SEIS within 60 days following the date the Environmental Protection Agency publishes their Notice of Availability in the Federal Register.

ADDRESSES: You may submit comments by the following methods: Fax: (775) 753-0255, Mail: Leeville Project Manager, BLM Elko Field Office, 3900 East Idaho Street, Elko, NV 89801.

FOR FURTHER INFORMATION CONTACT: Deb McFarlane, BLM Elko Field Office, 3900 East Idaho Street, Elko, NV 89801, (775) 753-0200.

SUPPLEMENTARY INFORMATION: The BLM signed a Record of Decision (ROD) for Newmont Mining Corporation's Leeville Project, an underground gold mine located on the Carlin Trend in northeastern Nevada, on September 25, 2002. The Leeville Mine includes three main ore bodies located approximately 2,500 feet below ground surface. Newmont is authorized to construct ancillary mine facilities, including construction of five shafts to access the ore bodies, shaft hoists, waste rock disposal facility, refractory ore stockpiles, facilities to support mine dewatering, and facilities to support backfill operations. Surface disturbance totals 486 acres. Four years of legal review resulted in a decision by the United States Court of Appeals for the Ninth Circuit holding that portions of the cumulative effects analysis were insufficient. In response, the BLM has updated the cumulative effects analyzed in Chapter 4 of the 2002 EIS, including information on any new or proposed projects that could contribute cumulative effects, and has issued this Draft SEIS which analyzes the cumulative effects analysis for Newmont Mining Corporation's Leeville gold mine in Eureka and Elko counties, Nevada. A copy of the Draft SEIS may be obtained from: Bureau of Land Management, Elko Field Office, 3900 Idaho Street, Elko, Nevada 89801. The Draft SEIS may also be found on the Elko Field Office Internet site at: http://www.blm.gov/nv/st/en/fo/elko_field_office/blm_information/nepa.htm. Comments, including names and street addresses of respondents, will be available for public review at the above address during regular business hours 7:30 a.m. to 4:30 p.m., Monday through Friday, except holidays, and may be published as part of the Final SEIS.

Before including your address, phone number, e-mail address, or other personal identifying information in your comment, be advised that your entire comment—including your personal identifying information—may be made publicly available at any time. While you can ask us in your comment to withhold your personal identifying information from public review, we cannot guarantee that we will be able to do so.

Ron Wenker,
State Director, Nevada.

[FR Doc. 07-4340 Filed 8-31-07; 2:38 pm]

BILLING CODE 4310-HC-P